DEPARTMENT OF COMMERCE

International Trade Administration

[A-533-889, A-489-837]

Certain Quartz Surface Products From India and Turkey: Antidumping Duty Orders

AGENCY: Enforcement and Compliance, International Trade Administration, Department of Commerce.

SUMMARY: Based on affirmative final determinations by the Department of Commerce (Commerce) and the International Trade Commission (ITC), Commerce is issuing antidumping duty orders on certain quartz surface products (quartz surface products) from India and the Republic of Turkey (Turkey).

DATES: Applicable June 22, 2020.

FOR FURTHER INFORMATION CONTACT: Charles Doss at (202) 482-4474 (India); and Laurel LaCivita at (202) 482-4243 (Turkey) or Kyle Clahane at (202) 482-5449 (Turkey); AD/CVD Operations, Office III, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on May 1, 2020, Commerce published its affirmative final determinations in the less-than-fair-value (LTFV) investigations of quartz surface products from India and Turkey.¹ On June 15, 2020, the ITC notified Commerce of its final affirmative determinations that an industry in the United States is materially injured within the meaning of section 735(b)(1)(A)(i) of the Act, by reason of the LTFV imports of quartz surface products from India and Turkey.²

¹ See Certain Quartz Surface Products from India: Final Determination of Sales at Less Than Fair Value and Final Negative Determination of Critical Circumstances, 85 FR 25391 (May 1, 2020); see also Certain Quartz Surface Products from the Republic of Turkey: Final Determination of Sales at Less Than Fair Value and Final Negative Determination of Critical Circumstances, 85 FR 25389 (May 1, 2020) (and accompanying decision memoranda) (collectively, Final Determinations).

² See ITC's Letter, “Notification of ITC Final Determinations,” dated June 15, 2020 (ITC Notification Letter).

Scope of the Orders

The merchandise covered by these orders is quartz surface products from India and Turkey. For a complete description of the scope of the Orders, see the Appendix to this notice.

Antidumping Duty Orders

On June 15, 2020, in accordance with sections 735(b)(1)(A)(i) and 735(d) of the Act, the ITC notified Commerce of its final determinations that an industry in the United States is materially injured by reason of imports of quartz surface products from India and Turkey.³ Therefore, Commerce is issuing these antidumping duty orders in accordance with sections 735(c)(2) and 736 of the Act. Because the ITC determined that imports of quartz surface products from India and Turkey are materially injuring a U.S. industry, unliquidated entries of such merchandise from India and Turkey, which are entered or withdrawn from warehouse for consumption, are subject to the assessment of antidumping duties.

³ See ITC Notification Letter.

As a result of the ITC's final affirmative determinations, in accordance with section 736(a)(1) of the Act, Commerce will direct U.S. Customs and Border Protection (CBP) to assess, upon further instruction by Commerce, antidumping duties equal to the amount by which the normal value of the merchandise exceeds the export price or constructed export price of the merchandise, for all relevant entries of quartz surface products from India and Turkey. Antidumping duties will be adjusted for export subsidies found in the final determinations of the companion countervailing duty investigations.⁴ Antidumping duties will be assessed on unliquidated entries of quartz surface products from India and Turkey entered, or withdrawn from warehouse, for consumption on or after December 13, 2019, the date of publication of the Preliminary Determinations,⁵ but will not include entries occurring after the expiration of the provisional measures period and before publication in the Federal Register of the ITC's injury determination, as further described below.

⁴ See Final Determinations.

⁵ See Certain Quartz Surface Products from India: Preliminary Affirmative Determination of Sales at Less Than Fair Value, Preliminary Negative Determination of Critical Circumstances, Postponement of Final Determination, and Extension of Provisional Measures, 84 FR 68123 (December 13, 2019); Certain Quartz Surface Products from the Republic of Turkey: Preliminary Affirmative Determination of Sales at Less Than Fair Value, Preliminary Negative Determination of Critical Circumstances, Postponement of Final Determination, and Extension of Provisional Measures, 84 FR 68111 (December 13, 2019) (collectively, Preliminary Determinations).

Additionally, because the estimated weighted-average dumping margin for Ermaş Madencilik Turizm Sanayi Ve Ticaret Anonim Şirketi (Ermaş) was determined to be zero in the LTFV investigation, Commerce is directing CBP to not suspend liquidation of entries of subject merchandise produced and exported by Ermaş. However, entries of subject merchandise in any other producer/exporter combination, e.g., merchandise produced by a third party and exported by Ermaş, or produced by Ermaş and exported by a third party, are subject to the applicable cash deposit rates equal to the estimated weighted-average dumping margins noted below.

Continuation of Suspension of Liquidation

In accordance with section 736 of the Act, except for subject merchandise produced and exported by Ermaş, Commerce will instruct CBP to continue to suspend liquidation of quartz surface products from India and Turkey as described in the Appendix to this notice which are entered, or withdrawn from warehouse, for consumption on or after the date of publication of the ITC's notice of final determination in the Federal Register. These instructions suspending liquidation will remain in effect until further notice.

We will also instruct CBP to require cash deposits equal to the amount as indicated below. Accordingly, effective on the date of publication of the ITC's final affirmative injury determination, CBP will require, at the same time as importers would normally deposit estimated duties on this subject merchandise, a cash deposit equal to the cash deposit rates listed below.⁶ The all-others rate applies to all producers or exporters not specifically listed.

⁶ See section 736(a)(3) of the Act.

Estimated Weighted-Average Dumping Margins

The estimated weighted-average dumping margins for each antidumping duty order are as follows:

Exporter/producer | Weighted-average dumping margin (percent) | Cash deposit rate (adjusted for subsidy offset(s)) (percent)
India
Antique Marbonite Private Limited; Shivam Enterprise; and Prism Johnson Limited | 5.15 | 3.58
Pokarna Engineered Stone Limited | 2.67 | 0.33
All Others | 3.19 | 1.02
Turkey
Belenco Diş Ticaret A.Ş. and Peker Yüzey Tasarımları Sanayi ve Ticaret A.Ş | 5.17 | 5.13
All Others | 5.17 | 5.13

Provisional Measures

Section 733(d) of the Act states that suspension of liquidation pursuant to an affirmative preliminary determination may not remain in effect for more than four months, except that Commerce may extend the four-month period to no more than six months at the request of exporters representing a significant proportion of exports of the subject merchandise. At the request of exporters that account for a significant proportion of quartz surface products from India and Turkey, we extended the four-month period to six months in the Preliminary Determinations published on December 13, 2019. Therefore, the extended period, beginning on the date of publication of the preliminary determination, ended on June 9, 2020. Pursuant to section 737(b) of the Act, the collection of cash deposits at the rates listed above will begin on the date of publication of the ITC's final injury determination.

Therefore, in accordance with section 733(d) of the Act and our practice, we will instruct CBP to terminate the suspension of liquidation and to liquidate, without regard to antidumping duties, unliquidated entries of quartz surface products from India and Turkey entered, or withdrawn from warehouse, for consumption on or after June 10, 2020, the first day provisional measures were no longer in effect, until and through the day preceding the date of publication of the ITC's final injury determination in the Federal Register. Suspension of liquidation will resume on the date of publication of the ITC's final determination in the Federal Register.

Notification to Interested Parties

This notice constitutes the antidumping duty orders with respect to quartz surface products from India and Turkey pursuant to section 736(a) of the Act. Interested parties can find a list of antidumping duty orders currently in effect at http://enforcement.trade.gov/stats/iastats1.html.

These orders are published in accordance with section 736(a) of the Act and 19 CFR 351.211(b).

Dated: June 16, 2020.
Jeffrey I. Kessler,
Assistant Secretary for Enforcement and Compliance.

Appendix I

Scope of the Orders

The merchandise covered by these Orders is certain quartz surface products. Quartz surface products consist of slabs and other surfaces created from a mixture of materials that includes predominately silica (e.g., quartz, quartz powder, cristobalite, glass powder) as well as a resin binder (e.g., an unsaturated polyester). The incorporation of other materials, including, but not limited to, pigments, cement, or other additives does not remove the merchandise from the scope of these Orders. However, the scope of these Orders only includes products where the silica content is greater than any other single material, by actual weight. Quartz surface products are typically sold as rectangular slabs with a total surface area of approximately 45 to 60 square feet and a nominal thickness of one, two, or three centimeters. However, the scope of these Orders includes surface products of all other sizes, thicknesses, and shapes. In addition to slabs, the scope of these Orders includes, but is not limited to, other surfaces such as countertops, backsplashes, vanity tops, bar tops, work tops, tabletops, flooring, wall facing, shower surrounds, fire place surrounds, mantels, and tiles. Certain quartz surface products are covered by these Orders whether polished or unpolished, cut or uncut, fabricated or not fabricated, cured or uncured, edged or not edged, finished or unfinished, thermoformed or not thermoformed, packaged or unpackaged, and regardless of the type of surface finish. In addition, quartz surface products are covered by these Orders whether or not they are imported attached to, or in conjunction with, non-subject merchandise such as sinks, sink bowls, vanities, cabinets, and furniture. If quartz surface products are imported attached to, or in conjunction with, such non-subject merchandise, only the quartz surface product is covered by the scope.

Subject merchandise includes material matching the above description that has been finished, packaged, or otherwise fabricated in a third country, including by cutting, polishing, curing, edging, thermoforming, attaching to, or packaging with another product, or any other finishing, packaging, or fabrication that would not otherwise remove the merchandise from the scope of these Orders if performed in the country of manufacture of the quartz surface products. The scope of these Orders does not cover quarried stone surface products, such as granite, marble, soapstone, or quartzite. Specifically excluded from the scope of these Orders are crushed glass surface products. Crushed glass surface products must meet each of the following criteria to qualify for this exclusion: (1) The crushed glass content is greater than any other single material, by actual weight; (2) there are pieces of crushed glass visible across the surface of the product; (3) at least some of the individual pieces of crushed glass that are visible across the surface are larger than 1 centimeter wide as measured at their widest cross-section (Glass Pieces); and (4) the distance between any single Glass Piece and the closest separate Glass Piece does not exceed three inches.

The products subject to the scope are currently classified in the Harmonized Tariff Schedule of the United States (HTSUS) under the following subheading: 6810.99.0010. Subject merchandise may also enter under subheadings 6810.11.0010, 6810.11.0070, 6810.19.1200, 6810.19.1400, 6810.19.5000, 6810.91.0000, 6810.99.0080, 6815.99.4070, 2506.10.0010, 2506.10.0050, 2506.20.0010, 2506.20.0080, and 7016.90.1050. The HTSUS subheadings set forth above are provided for convenience and U.S. Customs purposes only. The written description of the scope is dispositive.

[FR Doc. 2020-13401 Filed 6-19-20; 8:45 am]

BILLING CODE 3510-DS-P